DEPARTMENT OF JUSTICE

Notice of Lodging Proposed Consent Decree

In accordance with Departmental Policy, 28 CFR 50.7, notice is hereby given that a proposed Consent Decree in United States v. Moniteau County, No. 03-4094-CV-C-SOW was lodged with the United States District Court for the Western District of Missouri on October 3, 2005.

This proposed Consent Decree concerns a complaint filed by the United States against Moniteau County, Missouri and the Commissioners of Moniteau County, pursuant to Sections 301 and 404 of the Clean Water Act, 33 U.S.C. 1311 and 1344, to obtain injunctive relief from the defendants for violating the Clean Water Act by discharging pollutants without a permit into waters of the United States. The proposed Consent Decree resolves these allegations by enjoining Moniteau County from further violations, requiring it to take certain affirmative measures to avoid future violations, requiring restoration and mitigation with regard to an impacted area, and requiring an environmental project.

The Department of Justice will accept written comments relating to this proposed Consent Decree for thirty (30) days from the date of publication of this Notice. Please address comments to Charles M. Thomas, Office of the United States Attorney for the Western District of Missouri, 400 East 9th Street, Room 5510, Kansas City, Missouri 64106 and refer to United States v. Moniteau County.

The proposed Consent Decree may be examined at the Clerk's Office, United States District Court for the Western District of Missouri, United States Courthouse, 400 East 9th Street, Kansas City, Missouri 64016 or the Clerk's Office, 310 U.S. Courthouse, 131 W. High Street, Jefferson City, Missouri 65101. In addition, the proposed Consent Decree may be viewed at http://www.usdoj.gov/enrd/open.html.

Mary Edgar,
Assistant Chief, Environmental Defense Section, Environment & Natural Resources Division.

[FR Doc. 05-20540 Filed 10-12-05; 8:45 am]

BILLING CODE 4410-15-M